DEPARTMENT OF DEFENSE

Department of the Army, Corps of Engineers

Intent To Prepare a Draft Environmental Impact Statement (DEIS) for a Dredge and Fill Permit Application for the IMC Phosphate Company's (IMC) Proposed Ona Mine Project in Hardee County, Florida

AGENCY: U.S. Army Corps of Engineers, Department of Defense.

ACTION: Notice of intent.

SUMMARY: Pursuant to section 404 of the Clean Water Act, the U.S. Army Corps of Engineers has regulatory authority to permit the discharge of dredge and fill material into wetlands and other waters of the United States. In compliance with its responsibilities under the National Environmental Policy Act (NEPA) of 1969, the Jacksonville District, U.S. Army Corps of Engineers intends to prepare a DEIS as a result of the dredge and fill permit application for the IMC Ona Mine Project.

FOR FURTHER INFORMATION CONTACT: Ronald H. Silver, (904) 232-2502, West Permits Branch, Regulatory Division, P.O. Box 4970, Jacksonville, Florida 32232-0019.

SUPPLEMENTARY INFORMATION: IMC proposes to construct and operate a surface mine for the recovery of phosphate rock from its 20,595-acre property in western Hardee County near the rural community of Ona, Florida. Phosphate rock is the source of the element phosphorous, which is essential to life and for which there is no substitute. Phosphate rock recovered from the Ona Mine will be shipped to manufacturers who convert it to concentrated fertilizers used in high-yield agriculture.

The project proposed by IMC envisions that initially, only mining and reclamation will occur on the Ona property, with beneficiation and shipment of the phosphate rock occurring at the existing IMC's beneficiation plant at the Fort Green Mine in Polk and Hardee Counties. At a later date, which is as yet undetermined, a beneficiation plant consisting of a washer, a flotation plant, product inventory, a shipping facility, and miscellaneous support facilities will be constructed at the proposed plant site, and the portion of the Ona Mine's phosphate reserve which has not been mined at that time will be processed at the new plant. There will be no chemical plant, gypsum stack or rock dryer at the Ona Mine site.

Over many decades, significant portions of the Ona Mine property have been converted to agricultural use, chiefly as improved pasture. The natural ecosystems on most of these agricultural lands have been degraded or improved for agricultural activities. IMC proposes to mine these areas and to reclaim them to an appropriate blend of agricultural and habitat values. However, there are also some areas of less disturbance, which have the significant ecological value. Of these, IMC proposes not to mine about 4,900 acres of ecologically significant area, or approximately 24 percent of the gross acreage of the Ona Mine property.

IMC intends to use the “opencast” variant of surface mining as its standard technique for development of the Southeast Tract, wherein large electrically-powered excavators (“draglines”) first remove and set aside the soils overlying the ore (“overburden”), and then excavate the phosphate ore (“matrix”).

The matrix is placed by the dragline into a shallow depression at the ground surface, where the matrix is disaggregated and converted to a slurry by mixing it with water. The matrix slurry is transported by electrically powered pumps through pipelines to the beneficiation facility, where the phosphate rock is separated from the sand and clay with which it is found in the ore. The sand and clay are returned to the mine for use in reclamation, again by pipelines as slurries.

Three distinct methods of reclamation will be used in creation of the post-reclamation landscape. These are known as: (1) The sand fill with overburden cap method, (2) the shaped overburden method, and (3) the crustal development methods for reclamation of clay settling areas.

Alternatives: Alternatives considered include no action, mining a portion of the area only-based on identification of critical concerns, important natural resources, and sensitive ecological areas; in addition, alternatives will take into consideration: mining method, matrix transport, matrix processing, waste sand and clay disposal, process water sources, water management plan, reclamation, and wetland preservation. Various alternatives are available to satisfy the objectives of each of these components. Other alternatives that might be identified under the scoping process will also be addressed.

Issues: The EIS will consider impacts on protected species, health, conservation, economics, aesthetics, general environmental concerns, wetlands (and other aquatic resources), historic properties, fish and wildlife values, flood hazards, floodplain values, land use, navigation, recreation, water supply and conservation, water quality, energy needs, safety, food and fiber production, mineral needs, considerations of property ownership, and, in general, the needs and welfare of the people, and other issues identified through scoping, public involvement and interagency coordination.

Scoping: Public meetings have been conducted since early 1998 as part of the Ecosystem Management Permitting System as provided in Chapter 403.075, Florida Statutes. The process was facilitated by the Conflict Resolution Consortium of Florida State University and implemented by the Ecosystem Management Team made up of representatives of permitting entities, and by the Public Work Group composed of representatives of non-permitting government agencies, conservation and public interest groups, and unaffiliated interested parties. The issues raised by public participants at these meetings will be incorporated into the scoping process. At this time, there are no plans for a public scoping meeting. However, all parties are invited to participate in the scoping process by identifying concerns, issues, studies needed, alternatives, procedures, and other matters related to the scoping process and forwarding them to the information contact provided in this notice.

Public Involvement: We invite the participation of affected federal, state and local agencies, affected Indian tribes, and other interested private organizations and parties by submitting written comments to the information contact provided in this notice.

Coordination: The proposed action is being coordinated with the U.S. Fish and Wildlife (FWS) and the National Marine Fisheries Services under Section 7 of the Endangered Species Act, with the FWS under the Fish and Wildlife Coordination Act, and with the following State of Florida agencies: State Historic Preservation Officer, Fish & Wildlife Conservation Commission, Department of Environmental Protection, Bureau of Mine Reclamation.

Other Environmental Review and Consultation: The proposed action would involve application (to the State of Florida) for Water Quality Certification pursuant to Section 401 of the Clean Water Act, and certification of State lands, easements, and rights of way.

DEIS Preparation: It is estimated that the DEIS will be available to the public on or about January 31, 2001.

Dated: August 1, 2000.
John R. Hall,
Chief, Regulatory Division.

[FR Doc. 00-20571 Filed 8-11-00; 8:45 am]

BILLING CODE 3710-AJ-M